DEPARTMENT OF HEALTH AND HUMAN SERVICES

Centers for Disease Control and Prevention

[60Day-07-0696]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

HIV Prevention Program Evaluation and Monitoring System for Health Departments and Community-Based Organizations (PEMS)—Reinstatement (0920-0696)—National Center for HIV, STD, and TB Prevention (NCHSTP), Centers for Disease Control and Prevention (CDC).

Background and Brief Description

This is an extension of a data collection that is being incrementally implemented. The initial PEMS OMB request was approved October 6, 2005 for one year. However, delays in the development of the data collection software and requests by grantees for additional time to modify their data collection procedures have prevented the initial data collection originally anticipated for 2006.

The purpose of this data collection is to collect HIV prevention evaluation data from health department and community-based organization (CBO) grantees using the electronic Program Evaluation and Monitoring System (PEMS). This data collection incorporates data elements from two previously approved data collections: Evaluating CDC Funded Health Department HIV Prevention Programs, OMB No. 0920-0497 (discontinued 4/31/2006); and Assessing the Effectiveness of CBOs for the Delivery of HIV Prevention Programs, OMB No. 0920-0525 (discontinued 12/17/2004).

Per HIV prevention cooperative agreements, CDC requires non-identifying, client-level, standardized evaluation data from health department and CBO grantees to: (1) More accurately determine the extent to which HIV prevention efforts have been carried out, what types of agencies are providing services, what resources are allocated to those services, to whom services are being provided, and how these efforts have contributed to a reduction in HIV transmission; (2) improve ease of reporting to better meet these data needs; and (3) be accountable to stakeholders by informing them of efforts made and use of funds in HIV prevention nationwide.

Although CDC receives evaluation data from grantees, the data received to date is insufficient for evaluation and accountability. Furthermore, there has not been standardization of required evaluation data from both health departments and CBOs. Changes to the evaluation and reporting process have become necessary to ensure CDC receives standardized, accurate, thorough evaluation data from both health department and CBO grantees. For these reasons, CDC developed PEMS and consulted with representatives from health departments, CBOs, and national partners (e.g., The National Alliance of State and Territorial AIDS Directors, Urban Coalition of HIV/AIDS Prevention Services, and National Minority AIDS Council).

Respondents will collect, enter, and report general agency information, program model and budget data, and client demographics and behavioral characteristics. (After initial set-up of the PEMS, data collection will include searching existing data sources, gathering and maintaining data, document compilation, review of data, and data entry into the web-based system.) Agents will submit data quarterly. There are no costs to respondents other than their time.

Estimate of Annualized Burden
Respondents | Number of respondents | Number of responses per respondent | Average burden per response (in hours) | Total burden (in hours)
Health jurisdictions | 59 | 4 | 137 | 32,332
Health jurisdictions (CTR) | 30 | 4 | 174 | 20,880
Health jurisdictions (Training) | 59 | 4 | 10 | 2,360
Community-Based Organizations | 160 | 4 | 84 | 53,760
Community-Based Organizations (CTR) | 70 | 4 | 23 | 6,440
Community-Based Organizations (Training) | 160 | 4 | 10 | 6,400
Annual total |  |  |  | 122,172

Dated: November 14, 2006.
Joan F. Karr,
Acting Reports Clearance Officer, Centers for Disease Control and Prevention.

1

[FR Doc. E6-19634 Filed 11-20-06; 8:45 a.m.]

BILLING CODE 4163-18-P